DEPARTMENT OF THE INTERIOR

Fish and Wildlife Service

[FWS-R4-ES-2008-N0027]

[40120-1112-0000-F5]

Receipt of Applications for Endangered Species Permits

AGENCY: Fish and Wildlife Service, Interior.

ACTION: Notice.

SUMMARY: The public is invited to comment on the following applications to conduct certain activities with threatened and endangered species.

DATES: We must receive written data or comments on the application at the address given below, by March 31, 2008.

ADDRESSES: Documents and other information submitted with the applications are available for review, subject to the requirements of the Privacy Act and Freedom of Information Act, by any party who submits a written request for a copy of such documents to the following office within 30 days of the date of publication of this notice: Fish and Wildlife Service, 1875 Century Boulevard, Suite 200, Atlanta, Georgia 30345 (Attn: David Dell, HCP Coordinator).

FOR FURTHER INFORMATION CONTACT: David Dell, telephone 404/679-7313; facsimile 404/679-7081.

SUPPLEMENTARY INFORMATION: The public is invited to comment on the following applications for permits to conduct certain activities with endangered and threatened species pursuant to section 10(a)(1)(A) of the Endangered Species Act of 1973, as amended (16 U.S.C. 1531 et seq.). This notice is provided under section 10(c) of the Act. If you wish to comment, you may submit comments by any one of the following methods. You may mail comments to the Fish and Wildlife Service's Regional Office (see ADDRESSES section) or via electronic mail (e-mail) to david_dell@fws.gov. Please include your name and return address in your e-mail message. If you do not receive a confirmation from the Fish and Wildlife Service that we have received your e-mail message, contact us directly at the telephone number listed above (see FOR FURTHER INFORMATION CONTACT section). Finally, you may hand deliver comments to the Fish and Wildlife Service office listed above (see ADDRESSES section).

Before including your address, telephone number, e-mail address, or other personal identifying information in your comments, you should be aware that your entire comment—including your personal identifying information—may be made publicly available at any time. While you can ask us in your comments to withhold your personal identifying information from public review, we cannot guarantee that we will be able to do so. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

Applicant: Archbold Biological Station, Lake Placid, Florida, TE083085.

The applicant requests authorization to amend an existing permit to collect seeds of scrub plum (Prunus geniculata) from throughout the species range in Florida for use in propagation and research.

Applicant: Robert Shane Prescott, Compliance Monitoring Labs, Inc., Chapmanville, West Virginia, TE148279.

The applicant requests authorization to survey, capture and attach radiotransmitters to Virginia big-eared bat (Corynorhinus townsendii virginianus), gray bat (Myotis grisescens) and Indiana bat (Myotis sodalis). Activities will occur throughout West Virginia, Virginia, Tennessee, North Carolina, and Kentucky.

Applicant: Jack D. Wilhide, Compliance Monitoring Labs, Inc., Chapmanville, West Virginia, TE148282.

The applicant requests authorization to survey, capture and attach radiotransmitters to Virginia big-eared bat (Corynorhinus townsendii virginianus), gray bat (Myotis grisescens), and Indiana bat (Myotis sodalis). Sampling will occur throughout West Virginia, Virginia, Kentucky, North Carolina, Tennessee, and Arkansas.

Applicant: Byron J. Freeman, Institute of Ecology, University of Georgia, Athens, Georgia, TE132114.

The applicant requests amendment of an existing permit to capture and sacrifice for genetic research, amber darter (Percina antesella), from the Etowah River and the Conasauga River. The applicant also requests to collect Cherokee darter (Etheostoma scotti) from Hickory Log Creek. The applicant also seeks permission to hold Etheostoma scotti from multiple locations, collect trematode parasites and release the fish.

Applicant: Gary D. Schnell, University of Oklahoma, Norman, Oklahoma, TE040080.

The applicant requests authorization to amend an existing permit to add Texas to their authorized work area. Activities authorized are the capture, tagging and translocation of American burying beetle (Nicrophorus americanus).

Applicant: Carol E. Johnston, Auburn University, Auburn, Alabama, TE163433.

The applicant requests authorization to study spawning of the Cape Fear shiner (Notropis mekistocholas) in Chatham and Lee Counties, North Carolina.

Applicants: Steven Bradford Cook, Tennessee Technological University, Cookeville, Tennessee, TE083014. Matt A. Kulp, National Park Service, Tennessee, TE148237.

The applicant requests an amendment to his current permit to capture, mark, and monitor spotfin chub (Erimonax monachus), duskeytail darter (Etheostoma percnurum), smoky madtom (Noturus baileyi), and yellowfin madtom (Noturus flavipinnis) in Abrams Creek watershed, Sevier County, Tennessee.

Applicant: Stuart W. McGregor, Geological Survey of Alabama, Tuscaloosa, Alabama, TE027346.

The applicant requests an amendment to his current permit to salvage shells of endangered and threatened fresh water mollusks via wading, snorkeling, or scuba diving in the Chattahoochee River drainage in Alabama and Georgia.

Applicant: Paul D. Johnson, Alabama Aquatic Biodiversity Center, Marion, Alabama, TE130300.

The applicant requests an amendment to his current permit to collect, identify, sacrifice, temporarily hold, permanently hold, and release the following mollusks and fish species: rough pigtoe (Pleurobema plenum), black clubshell (Pleurobema curtum), Alabama heelsplitter (Potamilus inflatus), and Alabama sturgeon (Scaphirhynchus suttkusi). The activities will occur while conducting surveys, population estimates and genetic, morphological, anatomical, and captive propagation studies.

Applicant: Thomas S. Risch, Arkansas State University, Jonesboro, Arkansas, TE075913.

The applicant requests an amendment to his current permit to conduct mist netting of Indiana bats (Myotis sodalis) in Arkansas, Kentucky, western Virginia and eastern Ohio for population surveys.

Applicant: Steven E. Buler, Auburn University, Auburn, Alabama, TE163451.

The applicant requests authorization to capture and sacrifice blue shiner (Cyprinella caerulea), palezone shiner (Notropis albizonatus), Cahaba shiner (Notropis cahabae), slackwater darter (Etheostoma boschungi), boulder darter (Etheostoma wapiti), goldline darter (Percina aurolineata), and snail darter (Percina tanasi) as voucher specimens from streams throughout Alabama.

Applicant: Arthur C. Benke, University of Alabama, Tuscaloosa, Alabama, TE163435.

The applicant requests authorization to capture and release the following species: cylindrical lioplax (Lioplax cyclostomaformis); flat pebblesnail (Lepyrium showalteri); round rocksnail (Leptoxis ampla); fine-lined pocketbook (Lampsilis altilis), and orange-nacre mucket (Lampsilis perovalis) for research and surveys on Cahaba River National Wildlife Refuge, Bibb County, Alabama.

Applicant: Barry S. Payne and Mark D. Farr, USACE/ERDC, Vicksburg, Mississippi, TE163434.

The applicants request authorization to capture and release fat threeridge mussels (Amblema neislerii) as part of a study to determine depth distribution of the species in the Apalachicola River, Florida.

Applicant: Lee E. Carolan, Palmer Engineering. Winchester, Kentucky, TE156345.

The applicant requests permission to conduct presence/absence surveys on a contract basis for four endangered bat species, seven threatened or endangered bird species, two threatened reptiles, thirty endangered mussels, twelve threatened or endangered fish, one endangered snail, four endangered insects, one endangered crustacean and seven threatened or endangered plants. Depending on the contracts let, species may be sampled in Missouri, Ohio, Illinois, Indiana, Kentucky, Tennessee, West Virginia, and Virginia.

Applicant: Ya Yang, University of Michigan, Ann Arbor, Michigan, TE156323.

The applicant requests permission to collect leaf samples from Chamaesyce deltoidea, Chamaesyce garberi, Chamaesyce hooveri, and Euphorbia telephioides as well as two herbarium vouchers for each species. All species will be collected in Dade, Monroe, or Collier County, Florida for research purposes.

Applicant: Andrew Case Miller, Ecological Applications, Tallahassee, Florida, TE156374.

The applicant requests authorization to capture and release the endangered threeridge mussel (Amblema neislerii) for population surveys in the Apalachicola River, Florida.

Applicant: Peter Scott Floyd, Sr., Pascagoula, Mississippi, TE156426

The applicant requests authorization to trap, radio-tag, and release the endangered Alabama redbellied turtle (Pseudemys alabamensis), for research and surveys throughout the species range in Alabama.

Applicant: Gerald R. Dinkins, Dinkins Biological Consulting, Powell, Tennessee, TE069754.

The applicant requests renewal of his permit to capture, identify, and release federally listed fish and mussels for population surveys throughout their ranges in Georgia, Alabama, Tennessee, North Carolina, Kentucky, Virginia, West Virginia, Indiana, Illinois, Missouri, Ohio, Iowa, and Minnesota.

Applicant: Roberg Environmental Consulting Services, Cabot, Arkansas, TE105626.

The applicant requests renewal and amendment of his current permit to capture, mark, and release the American burying beetle for population surveys throughout the species range in Arkansas and Oklahoma.

Dated: January 30, 2008.
Jeffrey M. Fleming,
Acting Regional Director.

[FR Doc. E8-3768 Filed 2-27-08; 8:45 am]

BILLING CODE 4310-55-P